FEDERAL COMMUNICATIONS COMMISSION

Sunshine Act Meeting; Open Commission Meeting; Thursday, December 18, 2008

December 11, 2008.

The Federal Communications Commission will hold an Open Meeting on the subjects listed below on Thursday, December 18, 2008, which is scheduled to commence at 10 a.m. in Room TW-C305, at 445 12th Street, SW., Washington, DC.

Item No. | Bureau | Subject
1 | Office of Engineering and Technology & Wireless Tele-Communications | Title: Service Rules for Advanced Wireless Services in the 2155-2175 MHz Band (WT Docket No. 07-195); Service Rules for Advanced Wireless Services in the 1915-1920 MHz, 1995-2000 MHz, 2020-2025 MHz and 2175-2180 MHz Bands (WT Docket No. 04-356); Applications for License and Authority to Operate in the 2155-2175 MHz Band (WT Docket No. 07-16); Petitions for Forbearance Under 47 U.S.C. 160 (WT Docket No. 07-30).
|  | Summary: The Commission will consider a Report and Order and Order on Reconsideration concerning application, licensing, operating, and technical rules for the 2155-2180 MHz Band and an Order on Reconsideration concerning petitions for reconsideration filed in WT Dockets No. 07-16 and 07-30, as well as a Further Notice of Proposed Rulemaking for the 2155-2180 MHz band.
2 | Wireless Tele-Communications | Title: Amendment of Parts 1, 22, 24, 27, 74, 80, 90, 95, and 101 To Establish License Renewal and Discontinuance of Operation Policies and Procedures for Certain Wireless Radio Services; Imposition of a Freeze on the Filing of Competing renewal Applications for Certain Wireless Radio Services and the Processing of Already-Filed Competing Renewal Applications.
|  | Summary: The Commission will consider a Notice of Proposed Rulemaking and Order concerning harmonization of the Commission's requirements regarding license renewal and permanent discontinuance of operations for WRS licensees, as well as a related Order that would impose a freeze on the filing of competing renewal applications and the processing of already-filed competing renewal applications.
3 | Media | Title: Amendment of Parts 73 and 74 of the Commission's Rules to Establish Rules for Replacement Digital Low Power Television Translator Stations.
|  | Summary: The Commission will consider a Notice of Proposed Rulemaking concerning creation of a replacement digital television translator service.
4 | Media | Title: Development of Competition and Diversity in Video Programming Distribution and Carriage (MB Docket No. 07-42); Review of the Commission's Program Access Rules and Examination of Programming Tying Arrangements (MB Docket No. 07-198).
|  | Summary: The Commission will consider a Report and Order modifying the program carriage rules and procedures and a Further Notice of Proposed Rulemaking seeking comment on the practices of programmers and broadcasters.
5 | Enforcement | Title: Apparent Violations of the Commission's DTV Transition Notice Requirements for Eligible Telecommunications Carriers and Multichannel Video Programming Distributors.
|  | Summary: The Commission will consider an omnibus NAL against various companies for apparent violations of the Commission's DTV consumer education requirements.
6 | Public Safety & Homeland Security | Title: Wireless E911 Location Accuracy Requirements (PS Docket No. 07-114).
|  | Summary: The Commission will consider a Second Report and Order adopting revised wireless Enhanced 911 location accuracy and reliability requirements.
7 | Office of Engineering and Technology International & Wireless Tele-Communications | Title: Amendment of Part 27 of the Commission's Rules to Govern the Operation of Wireless Communications Services in the 2.3 GHz Band (WT Docket No. 07-293); Establishment of Rules and Policies for the Digital Audio Radio Satellite Service in the 2310-2360 MHz Frequency Band (IB Docket No. 95-91; General Docket No. 90-37); Sirius Satellite Radio, Inc., Request for Special Temporary Authority to Operate four Satellite DARS Terrestrial Repeaters in Alaska and Hawaii.
|  | Summary: The Commission will consider a Report and Order and Second Report and Order concerning proposed revisions to the service rules for mobile, fixed and base stations in the Wireless Communications Service (WCS), and proposed service rules for terrestrial repeaters to be used in conjunction with the Satellite Digital Audio Radio Service (SDARS).

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. E8-29910 Filed 12-12-08; 4:15 pm]

BILLING CODE 6712-01-P